FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012461.

Title: Maersk Line/HSDG Space Charter Agreement.

Parties: Maersk Line A/S and Hamburg Sud.

Filing Party: Wayne R. Rohde; Cozen O'Connor; 1200 19th Street NW., Washington, DC 20036.

Synopsis: The Agreement authorizes Maersk Line to charter space to Hamburg Sud in the trades between the U.S. on the one hand, and North Europe, Asia, Mexico and the Bahamas on the other hand.

Agreement No.: 012462.

Title: THE Alliance/CMA CGM Space Charter Agreement.

Parties: Hapag Lloyd; Kawasaki Kisen Kaisha, Ltd.; Mitsui O.S.K. Lines, Ltd.; Nippon Yusen Kaisha; Yang Ming Marine Transport Corp.; and CMA CGM S.A.

Filing Party: Joshua Stein; Cozen O'Connor; 1200 19th Street NW., Washington, DC 20036.

Synopsis: The Agreement authorizes members of THE Alliance to charter space in the trade between North Europe and the U.S. Pacific Coast to CMA CGM, and authorizes the Parties to enter into arrangements related to the chartering of such space.

Agreement No.: 012463.

Title: Maersk/MSC/HMM Strategic Cooperation Agreement.

Parties: Maersk Line A/S; MSC Mediterranean Shipping Company SA; and Hyundai Merchant Marine Co., Ltd.

Filing Party: Wayne Rohde; Cozen O'Connor; 1200 19th Street NW., Washington, DC 20036.

Synopsis: The Agreement authorizes Maersk Line and MSC to exchange slots with HMM in the trade between Asia and the U.S. West Coast. The agreement also authorizes Maersk Line and MSC to charter space to HMM in the trades between (a) Asia and the U.S. East Coast and (b) North Europe and the U.S. East Coast.

Agreement No.: 012464.

Title: NYK/CMA CGM Space Charter Agreement.

Parties: Nippon Yusen Kaisha and CMA CGM S.A.

Filing Party: Joshua Stein; Cozen O'Connor; 1200 19th Street NW., Washington, DC 20036.

Synopsis: The Agreement authorizes NYK to charter space to CMA CGM in the trade between the U.S. West Coast and Japan, and also authorizes the parties to enter into arrangements related to the chartering of such space.

By Order of the Federal Maritime Commission.
Dated: February 16, 2017.
Rachel E. Dickon,
Assistant Secretary.

[FR Doc. 2017-03443 Filed 2-21-17; 8:45 am]

BILLING CODE 6731-AA-P